DEPARTMENT OF TRANSPORTATION

Maritime Administration

Meeting Notice—U.S. Maritime Transportation System National Advisory Committee

AGENCY: Maritime Administration, Department of Transportation.

ACTION: Notice of advisory committee public meeting.

SUMMARY: The Maritime Administration (MARAD) announces a public meeting of the U.S. Maritime Transportation System National Advisory Committee (MTSNAC) to discuss advice and recommendations for the U.S. Department of Transportation on issues related to the maritime transportation system. The MTSNAC will consider new bylaws, form subcommittees and working groups, and develop work plans and recommendations.

DATES: The meeting will be held on Tuesday, October 18, 2016 from 8:00 a.m. to 5:00 p.m. and Wednesday, October 19, 2016 from 8:00 a.m. to 12:00 p.m. Eastern Daylight Saving Time (EDT).

ADDRESSES: The meeting will be held at the St. Louis City Center Hotel, 400 South 14th Street, St. Louis, MO 63103.

FOR FURTHER INFORMATION CONTACT: Eric Shen, Co-Designated Federal Officer at: (202) 308-8968, or Capt. Jeffrey Flumignan, Co-Designated Federal Official at (212) 668-2064 or via email: MTSNAC@dot.gov or visit the MTSNAC Web site at http://www.marad.dot.gov/ports/marine-transportation-system-mts/marine-transportation-system-national-advisory-committee-mtsnac/.

SUPPLEMENTARY INFORMATION: The MTSNAC is a Federal advisory committee that advises the U.S. Department of Transportation and MARAD on issues related to the marine transportation system. The MTSNAC was originally established in 1999 and mandated in 2007 by the Energy Independence and Security Act of 2007. The MTSNAC operates in accordance with the provisions of the Federal Advisory Committee Act (FACA).

Agenda

The agenda will include: (1) Welcome, opening remarks and introductions; (2) consideration of new bylaws, (3) formation of subcommittees or work groups; (4) development of work plans and proposed recommendations; and (5) public comment. The meeting agenda will be posted on the MTSNAC Web site at http://www.marad.dot.gov/ports/marine-transportation-system-mts/marine-transportation-system-national-advisory-committee-mtsnac/ .

The Maritime Administration has requested that the MTSNAC consider the following issues for potential recommendations:

a. How MARAD, state and local governments, and industry could address impediments hindering effective use of short sea transportation, including the expansion of America's Marine Highways;

b. approaches to expand the use of the Marine Transportation System for freight and passengers;

c. methods to grow the capacity of U.S. international gateway ports to accommodate larger vessels;

d. potential improvements to waterborne transport that would reduce congestion and increase mobility throughout the domestic transportation system;

e. actions designed to strengthen maritime capabilities essential to economic and national security;

f. ways to modernize the maritime workforce and inspire and educate the next generation of mariners;

g. actions designed to encourage the continued development of maritime innovation and;

h. any other actions MARAD could take to meet its mission to foster, promote, and develop the maritime industry of the United States.

Public Participation

The meeting will be open to the public. Members of the public who wish to attend in person must RSVP to MTSNAC@dot.gov with your name and affiliation no later than 5:00 p.m. EDT on October 7, 2016, in order to facilitate entry. Seating will be extremely limited and available on a first-come-first-serve basis.

Services for Individuals with Disabilities: The public meeting is physically accessible to people with disabilities. Individuals requiring accommodations, such as sign language interpretation or other ancillary aids are asked to notify Eric Shen at: (202) 308-8968, or Jeffrey Flumignan at (212) 668-2064 or MTSNAC@dot.gov five (5) business days before the meeting.

Public Comments: A public comment period will commence at 9:00 a.m. on Wednesday, October 19, 2016. To provide time for as many people to speak as possible, speaking time for each individual will be limited to three minutes. Members of the public who would like to speak are asked to contact the Designated Federal Officers via email: MTSNAC@dot.gov. Commenters will be placed on the agenda in the order in which notifications are received. If time allows, additional comments will be permitted. Copies of oral comments must be submitted in writing at the meeting or preferably emailed to MTSNAC@dot.gov. Additional written comments are welcome and must be filed as indicated below.

Written comments: Persons who wish to submit written comments for consideration by the Committee must email MTSNAC@dot.gov, or send them to MTSNAC Designated Federal Officers via email: MTSNAC@dot.gov, Maritime Transportation System National Advisory Committee, 1200 New Jersey Avenue SE. W21-307, Washington, DC 20590 no later than 5:00 p.m. EDT on October 7, 2016 to provide sufficient time for review.

Authority: 49 CFR part 1.93(a); 5 U.S.C. 552b; 41 CFR parts 102-3; 5 U.S.C. app. Sections 1-16

By Order of the Maritime Administrator.
Dated: September 29, 2016.
T. Mitchell Hudson, Jr.,
Secretary, Maritime Administration.

[FR Doc. 2016-23989 Filed 10-4-16; 8:45 am]

BILLING CODE 4910-81-P